DEPARTMENT OF COMMERCE

International Trade Administration

[A-552-802]

Certain Frozen Warmwater Shrimp From the Socialist Republic of Vietnam: Amended Final Results of Antidumping Duty Administrative Review, 2012-2013

AGENCY: Enforcement and Compliance, International Trade Administration, Department of Commerce.

SUMMARY: On September 24, 2014, the Department of Commerce (“Department”) published in the Federal Register the Final Results of the eighth administrative review of the antidumping duty (“AD”) Order ¹ on certain warmwater shrimp from the Socialist Republic of Vietnam (“Vietnam”).² The Department is amending the Final Results of the administrative review covering the period February 1, 2012 through January 31, 2013, to correct two ministerial errors.

¹ See Notice of Amended Final Determination of Sales at Less Than Fair Value and Antidumping Duty Order: Certain Frozen Warmwater Shrimp From the Socialist Republic of Vietnam, 70 FR 5152 (February 1, 2005) (“Order”).

² See Certain Frozen Warmwater Shrimp From the Socialist Republic of Vietnam: Final Results of Antidumping Duty Administrative Review, 2012-2013, 79 FR 57047 (September 24, 2014) (“Final Results”).

DATES: Effective Date: November 4, 2014.

FOR FURTHER INFORMATION CONTACT: Bob Palmer or Irene Gorelik, AD/CVD Operations, Office V, Enforcement and Compliance, International Trade Administration, Department of Commerce, 14th Street and Constitution Avenue NW., Washington, DC 20230; telephone: (202) 482-9068 or (202) 482-6905, respectively.

SUPPLEMENTARY INFORMATION: On September 24, 2014, the Department published in the Federal Register the Final Results. On September 26, 2014, on behalf of several member companies, VASEP ³ collectively submitted a timely ministerial error allegation with respect to the Department's Final Results of the administrative review.

³ The ministerial error allegation was filed by the Vietnam Association of Seafood Exporters and Producers (“VASEP”) which includes, as members, one of the two mandatory respondents, Soc Trang Aquatic Products and General Import and Export Company (“Stapimex”), and a number of companies that received a separate rate.

Ministerial Error

A ministerial error, as defined in section 751(h) of the Tariff Act of 1930, as amended (“the Act”), includes “errors in addition, subtraction, or other arithmetic function, clerical errors resulting from inaccurate copying, duplication, or the like, and any other type of unintentional error which the administering authority considers ministerial.” ⁴ VASEP alleges that, in the Final Results, the Department incorrectly identified several companies' names in the rate table in the Federal Register notice. Specifically, VASEP alleges that the Department: (1) Mistakenly added parentheses to one of the trade names for Minh Hai Joint-Stock Seafoods Processing Company; (2) misidentified one of the trade names for Stapimex; (3) misidentified the full name of Camau Seafood Processing and Service Joint-Stock Corporation and also omitted its alleged trade name “CASES”; and (4) omitted Hai Viet Corporation's alleged trade name “Havico.” Thus, VASEP requests that the Department correct the names of the companies identified above in the Final Results rate table as follows:

⁴ See also 19 CFR 351.224(f).

(1) Change Seaprodex Minh Hai (Workshop 1) to Seaprodex Minh Hai Workshop 1;

(2) change Stapimex Soc Trans Aquatic Products and General Import Export Company to Soc Trang Aquatic Products and General Import Export Company (Stapimex);

(3) change Camau Seafood Processing and Service Joint Stock Company to Camau Seafood Processing and Service Joint-Stock Corporation, aka CASES; and

(4) change Hai Viet Corporation to Hai Viet Corporation (Havico).

VASEP further alleged ministerial errors regarding misspelled and/or incorrect names within the draft cash deposit and draft liquidation instructions released to interested parties with the disclosure documents.

After comparing the ministerial error allegations against record evidence, in accordance with section 751(h) of the Act, we agree that we incorrectly listed the following names in the Final Results: Seaprodex Minh Hai (Workshop 1), Camau Seafood Processing and Service Joint Stock Company, and Stapimex Soc Trans Aquatic Products and General Import Export Company. The companies included these names in their respective separate rate certification and/or application, and we agree that we did not accurately reflect those names in the Final Results.⁵ Thus, we corrected the names in the rate box below to correspond to the names submitted in the separate rate certifications as follows: Seaprodex Minh Hai Workshop 1, Camau Seafood Processing and Service Joint-Stock Corporation, and Soc Trang Aquatic Products and General Import Export Company (“Stapimex”).

⁵ See Separate Rate Certification filed by Minh Hai Joint-Stock Seafoods Processing Company, dated May 28, 2013, at pages 8-9; see also Separate Rate Application filed by Camau Seafood Processing and Service Joint-Stock Corporation, dated May 28, 2013, at pages 8-9; and Separate Rate Certification filed by Stapimex, dated May 28, 2013, at page 8.

However, we disagree with VASEP's request that the Department add “CASES” as a trade name for Camau Seafood Processing and Service Joint-Stock Corporation. Camau Seafood Processing and Service Joint-Stock Corporation only identified CASES as an abbreviation of the full company name, not as a legal trade name used during the period of review (“POR”).⁶ Indeed, Camau Seafood Processing and Service Joint-Stock Corporation certified in its separate rate application that it had no other trade names during the POR.⁷ Thus, this allegation does not constitute a ministerial error as defined in 751(h) of the Act, because the Department intentionally omitted the abbreviation, CASES, from the rate box as the respondent did not identify it as a trade name in the separate rate application. Thus, we decline to add this name as a trade name in these amended final results.

⁶ See Separate Rate Application filed by Camau Seafood Processing and Service Joint-Stock Corporation, dated May 28, 2013, at page 8, where CASES was only identified as an abbreviation of the full company name.

⁷ See id., at page 9, where the company certified that it had no other trade names during the POR.

Additionally, VASEP requests that the Department change Hai Viet Corporation to Hai Viet Corporation (Havico). However, Hai Viet Corporation only identified Havico as an abbreviation of the full company name, not as a legal trade name, used during the POR.⁸ Hai Viet Corporation certified in its separate rate application that it had no other trade names during the POR.⁹ Thus, this allegation does not constitute a ministerial error under 751(h) of the Act, because the Department intentionally omitted the abbreviation, Havico, from the rate box as the respondent did not identify it as a trade name in the separate rate application. Thus, we decline to include Havico as a trade name in these amended final results.

⁸ See Separate Rate Application filed by Hai Viet Corporation, dated May 28, 2013, at page 8, where Havico was only identified as an abbreviation of the full company name.

⁹ See id., where the company certified that it had no other trade names during the POR.

Upon review of the Final Results, we also noted that while we intended to include two trade names for the Minh Phu Group,¹⁰ we inadvertently omitted those two trade names from the Final Results rate box. Therefore, in these amended final results, we added Minh Phu-Hau Giang Seafood Processing Co., Ltd. and Minh Phu-Hau Giang Seafood Processing Corporation as trade names for the Minh Phu Group and revised the draft cash deposit instructions, accordingly.

¹⁰ The Department found the companies comprising the Minh Phu Group are a single entity and, because there have been no changes to the facts which supported this determination since the sixth administrative review, we continue to find these companies to be part of a single entity. Therefore, we will assign this rate to the companies in the single entity. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012); see also Final Results and accompanying Issues and Decision Memorandum at Comment 9.

Amended Final Results of the Review

Exporter | Weighted- average margin (percent)
Minh Phu Group:
Minh Phu Seafood Corp., aka, Minh Phu Seafood Corporation, aka, Minh Phu Seafood Pte, aka, Minh Phu Hau Giang Seafood Co., Ltd., aka, Minh Phu-Hau Giang Seafood Processing Co., Ltd., aka, Minh Phu-Hau Giang Seafood Processing Corporation, aka, Minh Phat Seafood Co., Ltd., aka, Minh Qui Seafood Co., Ltd. | 4.98
Soc Trang Seafood Joint Stock Company, aka, Stapimex, aka, Soc Trang Aquatic Products and General Import Export Company, aka, Soc Trang Aquatic Products and General Import Export Company (“Stapimex”), aka, Stapmex | 9.75
Camau Seafood Processing and Service Joint-Stock Corporation | 6.37
Minh Hai Joint-Stock Seafoods Processing Company, aka, Seaprodex Minh Hai, aka, Sea Minh Hai, aka, Seaprodex Min Hai, aka, Seaprodex Minh Hai-Factory No. 78, aka, Seaprodex Minh Hai (Minh Hai Joint Stock Seafoods Processing Co.), aka, Seaprodex Minh Hai Workshop 1, aka, Seaprodex Minh Hai Factory No. 69 | 6.37

With respect to VASEP's ministerial error allegations regarding the draft cash deposit and draft liquidation instructions, we find that they do not fall under the definition of ministerial errors under section 751(h) because they were draft instructions that were not transmitted at the time of the Final Results publication to the U.S. Customers and Border Protection (“CBP”) and can be updated prior to transmittal to CBP. Therefore, we corrected, as described above, the misspellings and omissions within the draft instructions.¹¹

¹¹ See “Memorandum to the File, through Catherine Bertrand, Program Manager, Office V, from Irene Gorelik, Senior International Trade Compliance Analyst, Office V, re; Revised Draft Cash Deposit Instructions for the Amended Final Results of the 2012-2013 Administrative Review,” dated concurrently with this notice.

These amended final results are published in accordance with sections 751(h) and 777(i)(1) of the Act.

Dated: October 29, 2014.
Ronald K. Lorentzen,
Acting Assistant Secretary for Enforcement and Compliance.

[FR Doc. 2014-26192 Filed 11-3-14; 8:45 am]

BILLING CODE 3510-DS-P